FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 004428N and 004428F.

Name: A A Shipping LLC.

Address: 11100 South Wilcrest, Unit #3, Houston, TX 90260.

Date Revoked: March 18, 2005 and March 10, 2005.

Reason: Failed to maintain valid bonds.

License Number: 012095N.

Name: American Steamship Agency Corporation dba American Intermodal Systems.

Address: 300 Knickerbocker Road, Cresskell, NJ 07626.

Date Revoked: February 25, 2005.

Reason: Failed to maintain a valid bond.

License Number: 016232N.

Name: Bluesea Shipping Line, Inc.

Address: 841 Sandhill Avenue, Carson, CA 90746.

Date Revoked: January 23, 2005.

Reason: Failed to maintain a valid bond.

License Number: 015674N.

Name: Bral Marine Service Inc.

Address: 7766 NW 46th Street, Miami, FL 33166.

Date Revoked: February 24, 2005.

Reason: Failed to maintain a valid bond.

License Number: 016916N.

Name: Cargo Express Northwest, Inc.

Address: 427 SW 7th Street, Redmond, OR 97756.

Date Revoked: March 28, 2005.

Reason: Failed to maintain a valid bond.

License Number: 018892N.

Name: Concordia Shipping Line, Inc.

Address: 9990 SW 128th Terrace, Miami, FL 33190.

Date Revoked: February 19, 2005.

Reason: Failed to maintain a valid bond.

License Number: 013624N.

Name: Ea-Land International, Inc.

Address: 11222 La Cienega Blvd., #160, Inglewood, CA 90304.

Date Revoked: March 31, 2005.

Reason: Surrendered license voluntarily.

License Number: 018206F.

Name: FYT, Inc. dba Fan Yang Transportation.

Address: 17588 E. Rowland Street, #A-216, City of Industry, CA 91748.

Date Revoked: February 17, 2005.

Reason: Failed to maintain a valid bond.

License Number: 003139F.

Name: GAC International Transport, Inc.

Address: 320 Cantor Avenue, Linden, NJ 07036.

Date Revoked: February 4, 2005.

Reason: Failed to maintain a valid bond.

License Number: 009943N.

Name: Gondrand Transport Co., Inc.

Address: c/o Graf Repetti & Co., LLP, 1114 Avenue of the Americas, New York, NY 10036.

Date Revoked: March 17, 2005.

Reason: Surrendered license voluntarily.

License Number: 017435F.

Name: Malvazia Co. dba Advanced Cargo.

Address: 2535 Seaboard Coastline Drive, Savannah, GA 31415.

Date Revoked: February 4, 2005.

Reason: Failed to maintain a valid bond.

License Number: 017520F.

Name: Medtrans, LLC.

Address: 1200 Townline Road, Mundelein, IL 60060.

Date Revoked: March 11, 2005.

Reason: Failed to maintain a valid bond.

License Number: 018762F.

Name: Montebello Management Company, LLC dba Aero Logistics dba Aero Logistics of the United States.

Address: P.O. Box 281135, San Francisco, CA 94128-1135.

Date Revoked: March 21, 2005.

Reason: Surrendered license voluntarily.

License Number: 015904N.

Name: Navigation Dynamic Services Inc.

Address: 16920 South Avalon Blvd., Carson, CA 90746.

Date Revoked: March 23, 2005.

Reason: Failed to maintain a valid bond.

License Number: 018072N.

Name: Oceanair Freight International, Inc.

Address: 4280 NW 147th Terrace, Opalocka, FL 33054.

Date Revoked: March 30, 2005.

Reason: Failed to maintain a valid bond.

License Number: 009618N.

Name: Overseas International Corporation.

Address: 334 Union Street, Holbrook, MA 02343.

Date Revoked: February 21, 2005.

Reason: Failed to maintain a valid bond.

License Number: 018357N.

Name: Reliable Logistics LLC.

Address: 175-01 Rockaway Blvd., Suite 215, Jamaica, NY 11434.

Date Revoked: February 21, 2005.

Reason: Failed to maintain a valid bond.

License Number: 003406F.

Name: Simmons International Express, Inc.

Address: 101 East Clarendon Street, Prospect Hts., IL 60070.

Date Revoked: March 4, 2005.

Reason: Failed to maintain a valid bond.

License Number: 017670NF.

Name: Summit Cargo Group.

Address: 724 S. Hindry Avenue, Inglewood, CA 90301.

Date Revoked: March 18, 2005.

Reason: Failed to maintain valid bonds.

Sandra L. Kusumoto,
Director, Bureau of Certification and Licensing.

[FR Doc. 05-7424 Filed 4-12-05; 8:45 am]

BILLING CODE 6730-01-P